DEPARTMENT OF TRANSPORTATION

Federal Aviation Administration

[Docket No. FAA-2020-0986]

Agency Information Collection Activities: Requests for Comments; Clearance of Renewed Approval of Information Collection: Helicopter Air Ambulance Operator Reports

AGENCY: Federal Aviation Administration (FAA), DOT.

ACTION: Notice and request for comments.

SUMMARY: In accordance with the Paperwork Reduction Act of 1995, FAA invites public comments about our intention to request the Office of Management and Budget (OMB) approval to renew an information collection. The collection involves the requirement for Helicopter Air Ambulance Operators to report certain information to the FAA. The FAA collects 14 pieces of data from helicopter air ambulance operators, 8 of which are mandated in the report to Congress. We collect data on the following: number of helicopters, helicopter base locations, number of hours the helicopters are flown, number of patients transported, number of transportation requests accepted or denied, number of accidents, number of instrument flight hours flown, number of night flight hours flown, number of incidents, and the rate of accidents or incidents per 100,000 flight hours. The information to be collected will be used in helping the FAA develop risk mitigation strategies and provide information to Congress.

DATES: Written comments should be submitted by December 14, 2020.

ADDRESSES: Please send written comments:

By Electronic Docket: www.regulations.gov (Enter docket number into search field).

By mail: Sandra Ray, Federal Aviation Administration, Policy Integration Branch AFS-270, 1187 Thorn Run Road, Suite 200, Coraopolis, PA 15108.

By fax: 412-239-3063.

FOR FURTHER INFORMATION CONTACT: Tom Luipersbeck by email at: Thomas.A.Luipersbeck@faa.gov; phone: 615-202-9683.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0761.

Title: Helicopter Air Ambulance Operator Reports.

Form Numbers: 2120-0756.

Type of Review: Renewal of an information collection.

Background: The FAA Modernization and Reform Act of 2012 (The Act) mandates that all helicopter air ambulance operators must begin reporting the number of flights and hours flown, along with other specified information, during which helicopters operated by the certificate holder were providing helicopter air ambulance services. See Public Law 112-95, Sec. 306, 49 U.S.C. 44731. The Act further mandates that not later than 2 years after the date of enactment, and annually thereafter, the Administrator shall submit to the Committee on Transportation and Infrastructure of the House of Representatives and the Committee on Commerce, Science, and Transportation of the Senate, a report containing a summary of the data collected.

The helicopter air ambulance operational data provided to the FAA will be used by the agency as background information useful in the development of risk mitigation strategies to reduce the helicopter air ambulance accident rate, and to meet the mandates set by Congress. The information requested is limited to the minimum necessary to fulfill these new reporting requirements mandated by the Act and as developed by FAA. The amount of data required to be submitted is proportional to the size of the operation.

Respondents: 62 Helicopter Air Ambulance Operators.

Frequency: Annually.

Estimated Average Burden per Response: Varies per size of operation.

Estimated Total Annual Burden: 738 Hours for all operators.

Issued in Washington, DC, on October 8, 2020.
Sandra L. Ray,
Aviation Safety Inspector, FAA, Policy Integration Branch, AFS-270.

[FR Doc. 2020-22694 Filed 10-13-20; 8:45 am]

BILLING CODE 4910-13-P